DEPARTMENT OF TRANSPORTATION

Federal Aviation Administration

14 CFR Parts 91, 121, 125, and 135

[Docket No. FAA-2006-25334; Amendment Nos. 91-292; 121-326; 125-51; and 135-106]

RIN 2120-AI76

Additional Types of Child Restraint Systems That May Be Furnished and Used on Aircraft

AGENCY: Federal Aviation Administration (FAA), DOT.

ACTION: Disposition of comments on final rule.

SUMMARY: On July 14, 2006, the Federal Aviation Administration (FAA) amended certain operating regulations to allow passengers or aircraft operators to furnish and use more types of Child Restraint Systems (CRS) on aircraft. The rule allowed the use of CRSs that the FAA approves under the aviation standards of Technical Standard Order C-100b, Child Restraint Systems. In addition, the rule allowed the use of CRSs approved by the FAA under its certification regulations regarding the approval of materials, parts, processes, and appliances. The intended effect of the rule was to increase the number of CRS options that are available for use on aircraft, while maintaining safe standards for certification and approval. This action is a summary and disposition of comments received on the July 14, 2006 final rule.

ADDRESSES: The complete docket for the final rule on Additional Types of Child Restraint Systems that May be Furnished and Used on Aircraft may be examined at the Dockets Office on the plaza level of the NASSIF Building at the U.S. Department of Transportation, Room Plaza 401, 400 Seventh Street, SW., Washington, DC 20590-0001. You may review the public docket containing comments to these regulations in person in the Dockets Office between 9:00 a.m. and 5:00 p.m., Monday through Friday, except Federal holidays. Also, you may review public dockets on the Internet at http://dms.dot.gov.

FOR FURTHER INFORMATION CONTACT: Nancy Lauck Claussen, Federal Aviation Administration, Flight Standards Service, Air Transportation Division (AFS-200), 800 Independence Avenue, SW., Washington, DC 20591; Telephone 202-267-8166, E-mail nancy.l.claussen@faa.gov.

SUPPLEMENTARY INFORMATION:

Background

August 26, 2005 Final Rule

On August 26, 2005, the FAA published a final rule that amended its operating regulations to allow the use of CRSs that are approved by the FAA through Type Certificate (TC), Supplemental Type Certificate (STC), or Technical Standard Order (TSO) (70 FR 50902). The August 26, 2005 final rule allowed an operator to provide these CRSs. It did not allow passengers to furnish and use a CRS approved through TC, STC, or TSO. This is in contrast to CRSs that meet Federal Motor Vehicle Safety Standard (FMVSS) No. 213 or the standards of the United Nations, or are approved by a foreign government, which passengers may furnish and use on aircraft. The FAA received 16 comments on the August 26, 2005, final rule. The overwhelming majority of commenters requested that the FAA amend the August 26, 2005 Final Rule to allow passengers, in addition to aircraft operators, to furnish and use CRSs approved by the FAA.

July 14, 2006 Final Rule

After reviewing the comments to the August 26, 2005 final rule, the FAA decided to amend its operating rules to allow both passengers and aircraft operators to furnish and use CRSs that the FAA has approved under 14 CFR 21.305(d) and TSO C-100b. We published another final rule on July 14, 2006 (71 FR 40003). The July 14, 2006 final rule amendments were similar to provisions in the current rules that allow passengers and aircraft operators to furnish and use CRSs that meet FMVSS No. 213 or the standards of the United Nations, or are approved by a foreign government.

Discussion of Comments

The FAA received 16 comments on the July 14, 2006 final rule. Fifteen comments were from individuals and one was from the Air Transport Association (ATA)/United Airlines. All of the comments were positive. Many of the commenters noted and appreciated the FAA's attempt to be responsive to comments previously submitted on the August 26, 2005 final rule. Many of the commenters also noted positively that the final rule would allow passengers to furnish and use the AMSAFE CAReS CRS, which the FAA referenced in the July 14, 2006 final rule as an example of one CRS that the FAA may approve through the § 21.305(d) approval process. Some commenters also noted that the final rule would serve to encourage innovative technology in the area of child restraint and was in the best interests of safety, economy, children, parents, the traveling public, and air carriers. In addition, ATA noted it would “be beneficial for the carriers and the passengers to be able to see the list and images of the TSO C-100b approved CRS.” The FAA maintains a list of all authorized TSO Holders on its public Web site (http://www.airweb.faa.gov/Regulatory_and_Guidance_Library/rgTSO.nsf/MainFrame?OpenFrameSet). Information regarding any TSO holders will be posted on our Web site.

Conclusion

After consideration of the comments submitted in response to the final rule, the FAA has determined that no further rulemaking action is necessary. Amendment Nos. 91-292, 121-326, 125-51, and 135-106 remain in effect as adopted.

Issued in Washington, DC, on November 7, 2006.
James J. Ballough,
Director, Flight Standards Service.

[FR Doc. E6-19412 Filed 11-16-06; 8:45 am]

BILLING CODE 4910-13-P